DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on January 31-February 1, 2008, in Room 630 at the Department of Veterans Affairs, 810 Vermont Avenue, NW., Washington, DC. On January 31, the session will begin at 8 a.m. and end at 4 p.m. and on February 1, the session will begin at 8 a.m. and end at 2:30 p.m. The meeting is open to the public.

The purpose of the Committee is to provide the Secretary of Veterans Affairs with a continuing assessment of the effectiveness of the policies, organizational structures, and services of the Department in assisting homeless veterans. The Committee shall assemble and review information relating to the needs of homeless veterans and provide advice on the most appropriate means of offering assistance to homeless veterans. The Committee will make recommendations to the Secretary regarding such activities.

The Committee will receive briefings from VA and other officials and begin final preparation of its upcoming annual report and recommendations to the Secretary.

Those wishing to attend the meeting should give prior notice by contacting Mr. Pete Dougherty, Department of Veterans Affairs, at (202) 461-7401. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: December 20, 2007.
By Direction of the Secretary.
E. Philip Riggin,
Committee Management Officer.

[FR Doc. 07-6235 Filed 12-27-07; 8:45 am]

BILLING CODE 8320-01-M